DEPARTMENT OF DEFENSE

Department of the Army

Privacy Act of 1974; System of Records

AGENCY: Department of the Army, DOD.

ACTION: Notice to Alter a System of Records.

SUMMARY: The Department of the Army is altering a system of records notice in its existing inventory of record systems subject to the Privacy Act of 1974, (5 U.S.C. 552a), as amended.

DATES: This proposed action will be effective without further notice on December 20, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on November 9, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 13, 2001.
L.M. Bynum,
Alternate OSD Federal Register Liaison Officer, Department of Defense.

A0601-222 USMEPCOM

System Name:

ASVAB Student Test Scoring and Reporting System (February 22, 1993, 58 FR 10002).

Changes:

* * * * *

System Name:

Delete entry and replace with ‘Armed Services Military Accession Testing’.

System Location:

Replace the second paragraph with ‘Segments exist at military entrance processing stations (MEPS) in the continental United States, Alaska, Puerto Rico, and Hawaii, participating school systems; State departments of education/testing agencies; Brooks Air Force Base, TX 78235-5352; Defense Manpower Data Center, 400 Gigling Road, Seaside, CA 93955-6771; Army Research Institute, 5001 Eisenhower Avenue, Alexandria, VA 22333-5600; and all service recruiters/recruiting commands. Official mailing addresses are published as an appendix to the Army’s compilation of record systems notices.’

Categories of Individuals Covered by the System:

Delete ‘job corps’ from entry. Add to entry ‘the National Civilian Community Corps, and vocational students (i.e., technical institutions), as well as civilian and Active duty service members’.

Categories of Records in the System:

Add ‘rank’ to entry.

Authority for Maintenance of the System:

Delete entry and replace with ‘10 U.S.C. 133, Under Secretary of Defense for Acquisition; 10 U.S.C. 3013, Secretary of the Army; Technology, and Logistics; Army Regulation 601-222, Armed Services Military Personnel Accession Testing Programs; and E.O. 9397 (SSN).’

* * * * *

Storage:

Add to entry ‘file cabinets, and electronic storage media/databases’.

* * * * *

Safeguards:

Delete entry and replace with ‘Records are maintained in locked room or filing cabinets, and are only accessible to authorized personnel. Automated data systems are further protected by use identification and manual controls.’

Retention and Disposal:

Delete entry and replace with ‘Test score transmittals and qualification test answers records are maintained for one year then destroyed. Test material inventory files are maintained until inventory is approved, then destroy when no longer needed for conducting business, but not longer than 6 years.’

* * * * *

A0601-222 USMEPCOM

System Name:

Armed Services Military Accession Testing.

System Location:

Primary location: U.S. Military Entrance Processing Command, 2834 Green Bay Road, North Chicago, IL 60064-3094.

Segments exist at military entrance processing stations (MEPS) in the continental United States, Alaska, Puerto Rico, and Hawaii, participating school systems; State departments of education/testing agencies; Brooks Air Force Base, TX 78235-5352; Defense Manpower Data Center, 400 Gigling Road, Seaside, CA 93955-6771; Army Research Institute, 5001 Eisenhower Avenue, Alexandria, VA 22333-5600; and all service recruiters/recruiting commands. Official mailing addresses are published as an appendix to the Army’s compilation of record systems notices.

Categories of Individuals Covered by the System:

High school, college, the National Civilian Community Corps, and vocational students (i.e., technical institutions), as well as civilian and Active duty service members, who have been administered a version of the Armed Services Vocational Aptitude Battery (ASVAB).

Categories of Records in the System:

Individual's name, Social Security Number, address and telephone number, date of birth, sex, ethnic group identification, educational grade, rank, booklet number of ASVAB test, individual's plans after graduation, and individual item responses to each of the 10 ASVAB subtests.

Authority for Maintenance of the System:

10 U.S.C. 133, Under Secretary of Defense for Acquisition; 10 U.S.C. 3013, Secretary of the Army; Technology, and Logistics; Army Regulation 601-222, Armed Services Military Personnel Accession Testing Programs; and E.O. 9397 (SSN).

Purpose(s):

To compute and furnish test score products for career/vocational guidance and group assessment of aptitude test performance; to establish eligibility for enlistment and verify enlistment and placement scores and retest eligibility; for marketing evaluation, assessment of manpower trends and characteristics; and related statistical studies and reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Microfiche, optical mark sense answer sheets, computer magnetic tapes, file cabinets, and electronic storage media/databases.

Retrievability:

By individual's name and Social Security Number.

Safeguards:

Records are maintained in locked room or filing cabinets, and are only accessible to authorized personnel. Automated data systems are further protected by use identification and manual controls

Retention and Disposal:

Test score transmittals and qualification test answers records are maintained for one year then destroyed. Test material inventory files are maintained until inventory is approved, then destroy when no longer needed for conducting business, but not longer than 6 years.

System Manager(s) and Address:

Commander, U.S. Military Entrance Processing Command, 2834 Green Bay Road, North Chicago, IL 60064-3094.

Notification Procedure:

Individuals seeking to determine whether information about them is contained in this system should address written inquiries to the appropriate Military Entrance Processing Station. Official mailing addresses are published as an appendix to the Army's compilation of record systems notices.

Individual should provide his/her full name, Social Security Number, date tested, address at the time of testing, and signature.

Record Access Procedures:

Individuals seeking access to information about them contained in this system should address written inquiries to the appropriate Military Entrance Processing Station. Official mailing addresses are published as an appendix to the Army's compilation of record systems notices.

Individual should provide his/her full name, Social Security Number, date tested, address at the time of testing, and signature.

Contesting Record Procedures:

The Army's rules for accessing records, and for contesting contents and appealing initial agency determinations are contained in Army Regulation 340-21; 32 CFR part 505; or may be obtained from the system manager.

Record Source Categories:

From the individual and ASVAB tests.

Exemptions Claimed for the System:

Testing or examination material used solely to determine individual qualifications for appointment or promotion in the Federal service may be exempt pursuant to 5 U.S.C. 552a(k)(6), if the disclosure would compromise the objectivity or fairness of the test or examination process.

An exemption rule for this system has been promulgated in accordance with requirements of 5 U.S.C. 553(b)(1), (2), and (3), (c), and (e) and published in 32 CFR part 505. For additional information contact the system manager.

[FR Doc. 01-28898 Filed 11-19-01; 8:45 am]

BILLING CODE 5001-08-P